DEPARTMENT OF ENERGY

Energy Information Administration

Agency Information Collection Extension

AGENCY: U.S. Energy Information Administration (EIA), Department of Energy (DOE).

ACTION: Notice and request for comments.

SUMMARY: EIA invites public comment on the proposed three-year extension, with changes, to the Uranium Data Program (UDP) as required under the Paperwork Reduction Act of 1995. The UDP consists of three surveys: Form EIA-851A Domestic Uranium Production Report (Annual), which collects annual data from the U.S. uranium industry on uranium milling and processing, uranium feed sources, uranium mining, employment, drilling, expenditures, and uranium reserves; Form EIA-851Q Domestic Uranium Production Report (Quarterly), which collects monthly data that is reported on a quarterly basis, on uranium production on a quarterly basis; and Form EIA-858 Uranium Marketing Annual Survey, which collects annual data from the U.S. uranium market on uranium contracts and deliveries, inventories, enrichment services purchased, uranium in fuel assemblies, feed deliveries to enrichers, and unfilled market requirements for the current year and the following ten years.

DATES: EIA must receive all comments on this proposed information collection no later than January 2, 2024. If you anticipate any difficulties in submitting your comments by the deadline, contact the person listed in ADDRESSES section of this notice as soon as possible.

ADDRESSES: Send comments to Tim Shear by email to Uranium2024@eia.gov.

FOR FURTHER INFORMATION CONTACT: Tim Shear, U.S. Energy Information Administration, telephone (202) 586-0403, email Tim.Shear@eia.gov. The forms and instructions are available at https://www.eia.gov/survey.

SUPPLEMENTARY INFORMATION: This information collection request contains:

(1) OMB No.: 1905-0160;

(2) Information Collection Request Title: Uranium Data Program;

(3) Type of Request: Three-year extension with change;

(4) Purpose: Uranium Data Program (UDP) collects data on domestic uranium supply and demand activities, including production, exploration and development, trade, purchases and sales available to the U.S. The users of these data include Congress, Executive Branch agencies, the nuclear and uranium industry, electric power industry, and the public. Form EIA-851A data is published in EIA's Domestic Uranium Production Report—Annual, at http://www.eia.gov/uranium/production/annual/. Form EIA-851Q data is published in EIA's Domestic Uranium Production Report—Quarterly at http://www.eia.gov/uranium/production/quarterly/. Form EIA-858 data is published in EIA's Uranium Marketing Annual Report at http://www.eia.gov/uranium/marketing/ and Domestic Uranium Production Report—Annual at http://www.eia.gov/uranium/production/annual/.

(4a) Proposed Changes to Information Collection

There is a 6 hour increase in the total estimated burden across all three surveys. Due to the continued downturn in the uranium landholding/exploration/production sectors, EIA-851A had four fewer respondents which reduced the burden hours by 20. The addition of one trader/broker on the EIA-858 survey will result in 26 additional burden hours. The larger burden estimate of the EIA-858 survey (26 burden hours) compared to the EIA-851A survey (5 burden hours) results in 26 additional EIA-858 hours against a reduction of 20 hours on the EIA-851A survey (4 fewer respondents by 5 hours per response) for a total net burden gain of six hours across all three surveys. The number of respondents for the Form EIA-851A has decreased from 30 to 26. The number of respondents for the Form EIA-851Q has remained at 11. The number of respondents for the Form EIA-858 has increased from 61 to 62. Total annual burden hours across all uranium surveys will increase slightly from 1,769 hours to 1,775 hours;

(5) Annual Estimated Number of Respondents: 99;

(6) Annual Estimated Number of Total Responses: 132;

(7) Annual Estimated Number of Burden Hours: 1775;

(8) Annual Estimated Reporting and Recordkeeping Cost Burden: EIA estimates that there are no capital and start-up costs associated with this data collection. The information is maintained during the normal course of business. The cost of the burden hours is estimated to be $155,064 (1,775 burden hours times $87.36 per hour). Other than the cost of burden hours, EIA estimates that there are no additional costs for generating, maintaining, and providing this information.

Comments are invited on: (a) whether the proposed collection of information is necessary for the proper performance of the functions of the agency, including whether the information has practical utility; (b) the accuracy of the agency's estimate of the burden of the proposed collection of information, including the validity of the methodology and assumptions used; (c) ways to enhance the quality, utility, and clarity of the information to be collected; and (d) ways to minimize the burden of the collection of information on respondents, including through the use of automated collection techniques or other forms of information technology.

Statutory Authority: 15 U.S.C. 772(b), 42 U.S.C. 7101 et seq.

Signed in Washington, DC, on October 26, 2023.
Samson A. Adeshiyan,
Director, Office of Statistical Methods and Research, U.S. Energy Information Administration.

[FR Doc. 2023-24000 Filed 10-30-23; 8:45 am]

BILLING CODE 6450-01-P